DEPARTMENT OF COMMERCE

National Oceanic and Atmospheric Administration

RIN 0648-XF060

Pacific Fishery Management Council; Public Meeting

AGENCY: National Marine Fisheries Service (NMFS), National Oceanic and Atmospheric Administration (NOAA), Commerce.

ACTION: Notice; public meeting.

SUMMARY: The Pacific Fishery Management Council (Pacific Council) will host a webinar meeting of the Area 2A Pacific halibut governmental management entities, which will be open to the public.

DATES: The Area 2A manager's webinar will be held on Wednesday, December 14, 2016, from 8:30 a.m. until 10:30 a.m., or until business for the day is complete.

ADDRESSES: To attend the webinar (1) join the meeting by visiting this link http://www.joinwebinar.com; (2) enter the Webinar ID: 811-687-419, and (3) enter your name and email address (required). After logging in to the webinar, please (1) dial this TOLL number +1 (914) 614-3221 (not a toll-free number); (2) enter the attendee phone audio access code 867-903-330; and (3) then enter your audio phone pin (shown after joining the webinar). Participants are required to use their telephone, as this is the best practice to avoid technical issues and excessive feedback. Technical Information and System Requirements: PC-based attendees are required to use Windows® 7, Vista, or XP; Mac®-based attendees are required to use Mac OS® X 10.5 or newer; Mobile attendees are required to use iPhone®, iPad®, Android™ phone or Android tablet (See the GoToMeeting WebinarApps). You may send an email to Kris.Kleinschmidt@noaa.gov or contact him at (503) 820-2280, extension 425 for technical assistance. A public listening station will also be available at the Pacific Council office.

Council address: Pacific Council, 7700 NE. Ambassador Place, Suite 101, Portland, OR 97220-1384.

FOR FURTHER INFORMATION CONTACT: Ms. Kelly Ames, Pacific Council; telephone: (503) 820-2426.

SUPPLEMENTARY INFORMATION: The primary purpose of the Area 2A Pacific halibut manager's meeting is to prepare and develop recommendations for the January 23-27, 2017 International Pacific Halibut Commission's (IPHC) annual meeting in Victoria, British Columbia, Canada. Recommendations generated from the meeting would be communicated to the IPHC by the Pacific Council's representative, Mr. Phil Anderson. Attendees may also address other assignments relating to Pacific halibut management. No management actions will be decided by the attendees. The meeting will be open to the public, and the agenda, which will be available one week before the meeting, will provide for a public comment period.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt at (503) 820-2425 at least 10 business days prior to the meeting date.

Dated: November 28, 2016.
Tracey L. Thompson,
Acting Deputy Director, Office of Sustainable Fisheries, National Marine Fisheries Service.

[FR Doc. 2016-28918 Filed 12-1-16; 8:45 am]

BILLING CODE 3510-22-P